DEPARTMENT OF COMMERCE

International Trade Administration

[A-201-802]

Gray Portland Cement and Clinker From Mexico: Final Results of Changed-Circumstances Review, Revocation of Antidumping Duty Order, and Termination of Five-Year (Sunset) Review of Antidumping Duty Order

AGENCY: Import Administration, International Trade Administration, Department of Commerce.

SUMMARY: On February 17, 2009, the Department of Commerce (the Department) published a notice of initiation of changed-circumstances review, preliminary results of review, intent to revoke the antidumping duty order, and intent to terminate the five-year (sunset) review of the antidumping duty order on gray portland cement and clinker from Mexico.

We received comments from various interested parties supporting our preliminary results of review, revocation of the order, and termination of the sunset review. After consideration of those comments we are revoking the order and terminating the sunset review of the order.

DATES: Effective Date: April 1, 2009.

FOR FURTHER INFORMATION CONTACT: Hermes Pinilla or Minoo Hatten, AD/CVD Operations, Office 5, Import Administration, International Trade Administration, U.S. Department of Commerce, 14th Street and Constitution Avenue, NW., Washington, DC 20230, telephone: (202) 482-3477 and (202) 482-1690, respectively.

SUPPLEMENTARY INFORMATION:

Background

On March 6, 2006, the Office of the United States Trade Representative, Secretaria de Economia of the United Mexican States, and the Department entered into an Agreement on Trade in Cement. See Gray Portland Cement and Clinker From Mexico: Agreement Between the Office of the United States Trade Representative, The United States Department of Commerce and Secretaria de Economia of Mexico on Trade in Cement, 71 FR 13082 (March 14, 2006) (Agreement). Pursuant to the Agreement, the domestic industry, represented by the Southern Tier Cement Committee and its members, Capitol Aggregates, Ltd., and Holcim (U.S.) Inc., submitted letters stating that they have “no interest” in maintaining the order after the expiration of the Agreement.

On February 17, 2009, the Department of Commerce published the notice of initiation of changed-circumstances review, preliminary results of review, intent to revoke the antidumping duty order, and intent to terminate the five-year (sunset) review of antidumping duty order. See Gray Portland Cement and Clinker From Mexico: Initiation of Changed-Circumstances Review, Preliminary Results of Review, Intent to Revoke Antidumping Duty Order, and Intent to Terminate Five-year (Sunset) Review of Antidumping Duty Order, 74 FR 7393 (February 17, 2009) (Intent to Revoke).

We received comments from various interested parties supporting our preliminary results of review, revocation of the order, and termination of the sunset review.

Final Results of Review

We determine that all of the terms of the Agreement (see Intent to Revoke) have been satisfied.

Revocation of Order

Because we determine that the terms of the Agreement and, therefore, the terms of the “no interest” letters from producers accounting for substantially all of the production of the domestic like product have been met, we hereby revoke the antidumping duty order on gray portland cement and clinker from Mexico in its entirety, effective April 1, 2009.

Termination of Sunset Review

Because we determine that all the terms of the Agreement have been fulfilled and in accordance with letters filed by interested parties that are attached in Appendix 12 of the Agreement requesting the termination of the sunset review on March 31, 2009, we hereby terminate the suspended sunset review.

Suspension of Liquidation

We will instruct U.S. Customs and Border Protection (CBP) to discontinue the suspension of liquidation and to cease the collection of cash deposits on entries of subject merchandise entered, or withdrawn from warehouse, for consumption on or after April 1, 2009. In addition, we will instruct CBP to liquidate all entries made on or after April 1, 2009, without regard to antidumping duties.

This notice is published in accordance with sections 751(d)(1) and 777(i) of the Tariff Act of 1930, as amended, and 19 CFR 351.221(b)(5).

Dated: March 31, 2009.
Ronald K. Lorentzen,
Acting Assistant Secretary for Import Administration.

[FR Doc. E9-7692 Filed 4-3-09; 8:45 am]

BILLING CODE 3510-DS-P